ENVIRONMENTAL PROTECTION AGENCY

[Region 2 Docket No. NY69-278 FRL-7785-8]

Adequacy Status of the Submitted 2003, 2009 and 2013 Carbon Monoxide Budgets for the Attainment and Maintenance of the Carbon Monoxide National Ambient Air Quality Standards for Transportation Conformity Purposes for Onondaga County, NY

AGENCY: Environmental Protection Agency (EPA).

ACTION: Notice of adequacy.

SUMMARY: In this notice, EPA is notifying the public that we have found that the motor vehicle emissions budgets (“budgets”) for carbon monoxide (CO) in the submitted revision to the Carbon Monoxide Maintenance Plan for Onondaga, New York to be adequate for conformity purposes. These budgets were recalculated using EPA's latest motor vehicle emissions factor model, MOBILE6. On March 2, 1999, the D.C. Circuit Court ruled that submitted state implementation plan budgets cannot be used for conformity determinations until EPA has affirmatively found them adequate. As a result of our finding, Onondaga County, New York must use the new 2003, 2009 and 2013 CO budgets from the revision to the Carbon Monoxide Maintenance Plan for Onondaga County for future conformity determinations.

DATES: This finding is effective July 27, 2004.

FOR FURTHER INFORMATION CONTACT: Melanie A. Zeman, Air Programs Branch, Environmental Protection Agency—Region 2, 290 Broadway, 25th Floor, New York, New York 10007-1866, (212) 637-4022, Zeman.Melanie@epa.gov.

The finding and the response to comments will be available at EPA's conformity Web site: http://www.epa.gov/otaq/traq, (once there, click on the “Conformity” button, then look for “Adequacy Review of SIP Submissions for Conformity”).

SUPPLEMENTARY INFORMATION:

Background

Today's notice is simply an announcement of a finding that we have already made. EPA Region 2 sent a letter to the New York Department of Environmental Conservation on June 30, 2004 stating that the revised carbon monoxide budgets in the submitted Carbon Monoxide Maintenance Plan revision for Onondaga County, New York (dated June 22, 2004) are adequate for conformity purposes. The purpose of New York's June 22, 2004 submittal was to fulfill its commitment to update the current ten year Maintenance Plan for Carbon Monoxide for Onondaga County. The state is required to submit a new maintenance plan ten years after EPA approves the initial maintenance plan for the area. EPA approved the Onondaga County, New York redesignation request and Maintenance plan in 1993 (58 FR 50851, September 29, 1993). EPA's adequacy finding will also be announced on EPA's conformity Web site: http://www.epa.gov/otaq/traq, (once there, click on the “Conformity” button, then look for “Adequacy Review of SIP Submissions for Conformity”).

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in guidance (May 14, 1999 memo titled “Conformity Guidance on Implementation of March 2, 1999 Conformity Court Decision”). We followed this guidance, which can also be found on EPA's Web site at: http://www.epa.gov/otaq/traq, in making our adequacy determination.

Authority: 42 U.S.C. 7401-7671q.

Dated: June 30, 2004.
Jane M. Kenny,
Regional Administrator, Region 2.

[FR Doc. 04-15720 Filed 7-9-04; 8:45 am]

BILLING CODE 6560-50-P